DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before June 11, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on May 1, 2025.
Donald P. Burger,
Chief, General Approvals and Permits Branch.

Special Permits Data
Application No. | Applicant | Regulation(s) affected | Nature of the special permits thereof
21982-N | Ford Motor Company | 173.185(b)(3)(ii), 173.185(b)(6) | To authorize the transportation of multiple large cells in large packaging in compliance with existing LP903 packing instruction of the UN Model Regulations. (modes 1, 2).
21983-N | Resonac America, Inc | 178.35 | To authorize the transportation in commerce of foreign cylinders containing Dichlorosilane. (modes 1, 3).
21985-N | Accuray Incorporated | 173.310 | To authorize the manufacture, mark, sale, and use of non-DOT specification cylinders for the purpose of incorporation into a radiation detector. (modes 1, 2, 3, 4, 5).
21988-N | PAG Holdings, LLC | 173.240(f), 178.1030 | To authorize the transportation in commerce of non-specification flexible intermediate bulk containers that do not conform to all applicable specification FIBC requirements in 49 CFR Part 178. (modes 1, 2).
21990-N | Gas Transport Leasing—GTL, LLC | 173.301(f)(1), 173.301(g)(1) | To authorize the transportation in commerce of compressed hydrogen in module assemblies containing non-DOT specification carbon fiber reinforced composite cylinders manufactured under DOT-SP 14576 without pressure relief devices. (mode 1).
21992-N | Tesla, Inc | 173.185(b) | To authorize the transportation in commerce by motor vehicle and rail freight of lithium cells packaged within a rigid plastic 50H Large Packaging. (modes 1, 2).
21996-N | ArkEdge Space Inc | 173.185(a)(1), 173.185(b)(3) | To authorize the transportation in commerce of prototype and low production lithium batteries via cargo-only aircraft in alternative packaging. (mode 4).
22000-N | Nouryon Functional Chemicals LLC | 172.203(a), 172.302(c), 173.31(d)(1)(ii) | To authorize the transportation in commerce of tank cars in which the manway cover gasket has been subjected to the leak detection method(s) in lieu of a visual inspection. (mode 2).
22001-N | Axxon Services, Inc | 172.400a(c) | To authorize the transportation in commerce of a refrigerant (R170) to a customer in another state within the US. (mode 1).
22002-N | United Brands Products Design Development and Marketing, Inc | 173.301(a)(11), 173.301b(c)(1), 178.71(d)(2) | To authorize the transportation in commerce of certain specification cylinders containing nitrous oxide that use an alternative valve standard. (mode 1).
22003-N | L3Harris Technologies, Inc | 173.302a(a)(1) | To authorize the transportation in commerce of non-DOT specification cylinders contained in spacecraft. (mode 1).
22005-N | Caterpillar Inc | 173.185(a)(1) | To authorize the transportation in commerce of prototype lithium batteries exceeding 35 kg via cargo-only aircraft. (mode 4).
22006-N | Plastipak Packaging, Inc | 178.33b-8(a)(1) | To authorize the transportation in commerce of DOT 2S plastic receptacles with a burst pressure of 300 psig or greater. (modes 1, 2, 3).

[FR Doc. 2025-08271 Filed 5-9-25; 8:45 am]

BILLING CODE P